AGENCY FOR INTERNATIONAL DEVELOPMENT

Notice of Advisory Committee Charter Re-Establishment

AGENCY: U.S. Agency for International Development (USAID).

ACTION: Notice.

SUMMARY: In accordance with the Federal Advisory Committee Act (FACA), the U.S. Agency for International Development is hereby giving notice that the Advisory Committee on Voluntary Foreign Aid (ACVFA) is being re-established.

ADDRESSES: To view additional information related to ACVFA please visit http://www.usaid.gov/who-we-are/organization/advisory-committee.

FOR FURTHER INFORMATION CONTACT: Karen Vargas, Designated Federal Officer for ACVFA, at kvargas@usaid.gov or 202-705-5769.

SUPPLEMENTARY INFORMATION: ACVFA brings together USAID and representatives from private voluntary organizations (PVO), universities, nongovernmental organizations (NGOs), and multilateral and private organizations to foster understanding, communication, and cooperation in the area of foreign aid. The Administrator of USAID is re-establishing the committee for two years, effective on the date of filing of its renewed charter.

Karen Vargas,
ACVFA Designated Federal Officer.

[FR Doc. 2024-20178 Filed 9-6-24; 8:45 am]

BILLING CODE 6116-01-P